DEPARTMENT OF THE INTERIOR

Bureau of Land Management

[16X L1109AF LLUT92000 L13100000 FI0000 25-7A]

Notice of Proposed Class II Reinstatement of Terminated Oil and Gas Lease, Utah

AGENCY: Bureau of Land Management, Interior.

ACTION: Notice.

SUMMARY: In accordance with the Federal Oil and Gas Royalty Management Act, Twilight Resources LLC and Petro Fuego LLC, timely filed a petition for reinstatement of oil and gas lease UTU86892 for lands in Grand County, Utah, and it was accompanied by all required rentals and royalties accruing from September 1, 2014, the date of termination.

FOR FURTHER INFORMATION CONTACT: Kent Hoffman, Deputy State Director, Lands and Minerals, Utah State Office, Bureau of Land Management, 440 West 200 South, Suite 500, Salt Lake City, Utah 84101, phone 801-539-4063, Email: khoffman@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The lessee has agreed to new lease terms for rental and royalty. The rental for UTU86892 will increase to $10 per acre and the royalty to 16⅔ percent. The $500 administrative fee for the leases has been paid, and the lessee has reimbursed the Bureau of Land Management (BLM) for the cost of publishing this notice.

The following-described lands in Grand County, Utah, include:

UTU86892

Salt Lake Meridian, Utah

T. 22 S., R 16 E.,

Sec. 24;

Sec. 25.

The area described contains 1,280 acres.

As the lessee has met all the requirements for reinstatement of the lease as set out in Section 31(d) and (e) of the Mineral Leasing Act of 1920 (30 U.S.C. 188), the BLM is proposing to reinstate the lease 30 days following publication of the notice, effective September 1, 2014, subject to the original terms and conditions of the leases and the increased rental and royalty rates cited above.

Authority: Mineral Leasing Act of 1920 (30 U.S.C. 188).

Approved:

Katherine Kitchell,
Acting Associate State Director.

[FR Doc. 2016-06629 Filed 3-22-16; 8:45 am]

BILLING CODE 4310-DQ-P